FEDERAL COMMUNICATIONS COMMISSION

47 CFR Part 73

[DA 01-256; MM Docket No. 00-204; RM-9983]

Radio Broadcasting Services; Blairsville, GA

AGENCY: Federal Communications Commission.

ACTION: Proposed rule, dismissal.

SUMMARY: The Commission, at the request of M. Terry Carter and Douglas Sutton, Jr. d/b/a Tugart Communications, dismisses its request to allot Channel 236A to Blairsville, GA, as the community's first local aural service. See 65 FR 66950, November 8, 2000. Channel 236A cannot be allotted to Blairsville in compliance with section 73.315 of the Commission's Rules because of a major obstruction between the proposed transmitter site and the community.

FOR FURTHER INFORMATION CONTACT: Leslie K. Shapiro, Mass Media Bureau, (202) 418-2180.

SUPPLEMENTARY INFORMATION: This is a synopsis of the Commission's Report and Order, MM Docket No. 00-204, adopted January 24, 2001, and released February 2, 2001. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

Federal Communications Commission.
John A. Karousos,
Chief, Allocations Branch, Policy and Rules Division, Mass Media Bureau.

[FR Doc. 01-3961 Filed 2-15-01; 8:45 am]

BILLING CODE 6712-01-P